DEPARTMENT OF ENERGY

Federal Energy Regulatory Commission

[Project No. 13757-002; Project No. 13761-002; Project No. 13768-002]

FFP Missouri 5, LLC; FFP Missouri 6, LLC; Solia 6 Hydroelectric, LLC; Notice of Availability of Environmental Assessment

In accordance with the National Environmental Policy Act of 1969 and the Federal Energy Regulatory Commission's (Commission or FERC) regulations, 18 Code of Federal Regulations Part 380, Office of Energy Projects staff has reviewed applications for original licenses for the Emsworth Locks and Dam Hydroelectric Project (FERC No. 13757-002), Emsworth Back Channel Hydroelectric Project (FERC No. 13761-002), and Montgomery Locks and Dam Hydroelectric Project (FERC No. 13768-002) on the Ohio River. These projects are referred to collectively as the Ohio River Projects.

The projects would all be located at existing locks and dams owned by the U.S. Army Corps of Engineers. The Emsworth Locks and Dam Hydroelectric Project would be located on the Ohio River near Emsworth, Pennsylvania, in Allegheny County at river mile (RM) 6.2. The Emsworth Back Channel Hydroelectric Project would be located on the Ohio River near Coraopolis, Pennsylvania, in Allegheny County at RM 6.8. The Montgomery Locks and Dam Hydroelectric Project would be located on the Ohio River downstream of Monaca, Pennsylvania, in Beaver County at RM 31.7. The projects would collectively occupy 17.1 acres of federal land.

Staff has prepared a multi-project environmental assessment (EA) that analyzes the potential environmental effects of the three projects and concludes that constructing and operating the projects, with appropriate environmental protection measures, would not constitute a major federal action that would significantly affect the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to these or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Emsworth Locks and Dam Hydroelectric Project No. 13757-002, Emsworth Back Channel Hydroelectric Project No. 13761-002, and/or Montgomery Locks and Dam Hydroelectric Project No. 13768-002,” as appropriate.

For further information, contact Nicholas Ettema at (202) 502-6565 or by email at nicholas.ettema@ferc.gov.

Dated: June 3, 2016.
Kimberly D. Bose,
Secretary.

[FR Doc. 2016-13647 Filed 6-8-16; 8:45 am]

BILLING CODE 6717-01-P